DEPARTMENT OF VETERANS AFFAIRS

[OMB Control No. 2900-0569]

Proposed Information Collection Activity: Proposed Collection; Comment Request

AGENCY: Veterans Benefits Administration, Department of Veterans Affairs.

ACTION: Notice.

SUMMARY: The Veterans Benefits Administration (VBA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on requirements relating to customer satisfaction surveys.

DATES: Written comments and recommendations on the proposed collection of information should be received on or before September 15, 2000.

ADDRESSES: Submit written comments on the collection of information to Lynne R. Heltman, Veterans Benefits Administration (245), Department of Veterans Affairs, 810 Vermont Avenue, NW, Washington, DC 20420. Please refer to “OMB Control No. 2900-0569” in any correspondence.

FOR FURTHER INFORMATION CONTACT: Lynne R. Heltman at (202) 273-5440.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Generic Clearance for the Veterans Benefits Administration Customer Satisfaction Surveys.

OMB Control Number: 2900-0569.

Type of Review: Extension of a currently approved collection.

Abstract: VBA administers integrated programs of benefits and services, established by law for veterans and their survivors, and service personnel. Executive Order 12862, Setting Customer Service Standards, requires Federal agencies and departments to identify and survey its customers to determine the kind and quality of services they want and their level of satisfaction with existing service. VBA uses customer satisfaction surveys to gauge customer perceptions of VA services as well as customer expectations and desires. The results of these information collections lead to improvements in the quality of VBA service delivery by helping to shape the direction and focus of specific programs and services.

Affected Public: Individuals or households, non-profit organizations, educational institutions, veterans' service organizations, and businesses or other for-profits.

National Survey Activities
Year | Number of respondents | Estimated annual burden (hours) | Frequency of response
Survey of Veterans' Satisfaction With the VA Compensation and Pension Claims Process
2001 | 22,800 | 5,700 | One-time.
2002 | 22,800 | 5,700 | Do.
2003 | 22,800 | 5,700 | Do.
Survey of Veterans' Satisfaction With the VA Education Claims Process
2001 | 3,200 | 800 | One-time.
2002 | 3,200 | 800 | Do.
2003 | 3,200 | 800 | Do.
Survey of Educational Institution Certifying Officials
2002 | 1,000 | 330 | One-time.
2003 | 1,000 | 330 | Do.
Loan Guaranty Customer Satisfaction Survey—Veteran
2001 | 7,200 | 1,202 | One-time.
2002 | 7,200 | 1,202 | Do.
2003 | 7,200 | 1,202 | Do.
Loan Guaranty Customer Satisfaction Survey—Lender
2001 | 1,000 | 330 | One-time.
2002 | 1,000 | 330 | Do.
2003 | 1,000 | 330 | Do.
Vocational Rehabilitation & Employment Program Survey
2001 | 10,800 | 2,700 | One-time.
2002 | 10,800 | 2,700 | Do.
2003 | 10,800 | 2,700 | Do.
Insurance Customer Surveys
2001 | 2,800 | 280 | One-time.
2002 | 2,800 | 280 | Do.
2003 | 2,800 | 280 | Do.
Undetermined Focus Groups
2001 | 500 | 1,000 | One-time.
2002 | 500 | 1,000 | Do.
2003 | 500 | 1,000 | Do.
National Telephone Survey
2001 | 7,200 | 1,224 | One-time.
2002 | 7,200 | 1,224 | Do.
2003 | 7,200 | 1,224 | Do.
VA Regional Office-Based Survey Activities—VA Regional Office-Based Customer Satisfaction Focus Groups
2001 | 600 | 1,800 | One-time.
2002 | 600 | 1,800 | Do.
2003 | 600 | 1,800 | Do.
VA Regional Office-Specific Service Improvement Initiatives (Comment Card)
2001 | 139,200 | 11,554 | One-time.
2002 | 139,200 | 11,554 | Do.
2003 | 139,200 | 11,554 | Do.

Most customer satisfaction surveys will be recurring so that VBA can create ongoing measures of performance and to determine how well the agency meets customer service standards. Each collection of information will consist of the minimum amount of information necessary to determine customer needs and to evaluate VBA's performance. VBA expects to conduct an estimated 100 focus groups and receive up to 139,200 comment cards involving a total of 14,354 hours each year for 2001, 2002, and 2003. In addition, VBA expects to distribute written surveys with a total annual burden of approximately 12,236 hours in 2001, 12,566 hours in 2002, and 12,566 hours in 1999. The grand totals for both focus groups, comment cards, and written surveys are: 26,590 hours in 2001, 26,920 hours in 2002, and 26,920 hours in 2003.

Anyone may view the results of previously administered surveys on the internet by going to the following VBA surveys website: http://www.vba.va.gov/surveys/.

The areas of concern to VBA and its customers may change over time, and it is important to have the ability to evaluate customer concerns quickly. OMB will be requested to grant generic clearance approval for a 3-year period to conduct customer satisfaction surveys, focus groups and to send out comment cards. Participation in the surveys, focus groups, and comment cards will be voluntary and the generic clearance will not be used to collect information required to obtain or maintain eligibility for a VA program or benefit. In order to maximize the voluntary response rates, the information collection will be designed to make participation convenient, simple, and free of unnecessary barriers. Baseline data obtained through these information collections will be used to improve customer service standards. VBA will consult with OMB regarding each specific information collection during this approval period.

Dated: June 16, 2000.
By direction of the Secretary.
Donald L. Neilson,
Director, Information Management Service.

[FR Doc. 00-17971 Filed 7-14-00; 8:45 am]

BILLING CODE 8320-01-P